DEPARTMENT OF LABOR

Office of Federal Contract Compliance Programs

Notice of Reinstatement, Pacific Coast Feather Company

AGENCY: Office of Federal Contract Compliance Programs, U.S. Department of Labor.

ACTION: Notice of reinstatement, Pacific Coast Feather Company.

SUMMARY: This notice advises that, pursuant to 41 CFR 60-1.31, Pacific Coast Feather Company has been reinstated as an eligible bidder on Federal contracts and subcontracts. For further information, contact Charles E. James, Sr., Deputy Assistant Secretary for Federal Contract Compliance, U.S. Department of Labor, 200 Constitution Avenue, NW., Room C-3325, Washington, DC 20210 (202) 693-0101.

SUPPLEMENTARY INFORMATION: Pacific Coast Feather Company, is as of this date, reinstated as an eligible bidder on Federal and federally assisted contracts and subcontracts.

Dated: August 20, 2004, Washington, DC.
Charles E. James, Sr.,
Deputy Assistant Secretary, For Federal Contract Compliance.

[FR Doc. 04-19808 Filed 8-30-04; 8:45 am]

BILLING CODE 4510-CM-M